DEPARTMENT OF AGRICULTURE

Forest Service

Hood/Willamette Resource Advisory Committee (RAC)

AGENCY: Forest Service, USDA.

ACTION: Notice of meeting.

SUMMARY: The Hood/Willamette Resource Advisory Committee (RAC) will meet on Friday, September 29, 2006. The meeting and field trip is scheduled to begin at 9 a.m. and will conclude at approximately 4:30 p.m. The meeting will be held at the Detroit Ranger Station; 14425 North Santiam Highway SE. (Hwy 22), Detroit, Oregon; (503) 854-3366. The tentative agenda includes: (1) Finalizing Recommendations on 2007 Projects; (2) Public Forum; and (3) Field Trip to Title II Projects.

The Public Forum is tentatively scheduled to begin at 9:15 a.m. Time allotted for individual presentations will be limited to 3-4 minutes. Written comments are encouraged, particularly if the material cannot be presented within the time limits for the Public Forum. Written comments may be submitted prior to the September 29th meeting by sending them to Designated Federal Official Donna Short at the address given below.

FOR FURTHER INFORMATION CONTACT: For more information regarding this meeting contact Designated Federal Official Donna Short, Sweet Home Ranger District; 4431 Highway 20, Sweet Home, Oregon 97386; (541) 367-3540.

Dated: September 7, 2006.
Dallas J. Emch,
Forest Supervisor.

[FR Doc. 06-7651 Filed 9-13-06; 8:45 am]

BILLING CODE 3410-11-M